DEPARTMENT OF HEALTH AND HUMAN SERVICES

Indian Health Service

Request for Public Comment: 60 Day Information Collection: Urban Indian Organization On-Site Review

AGENCY: Indian Health Service, HHS.

ACTION: Notice and request for comments. Request for approval.

SUMMARY: In compliance with the Paperwork Reduction Act of 1995, the Indian Health Service (IHS) invites the general public to comment on the information collection titled, “Urban Indian Organization On-Site Review,” Office of Management and Budget (OMB) Control Number 0917-00XX. IHS is requesting OMB to approve a new collection.

DATES: Comment Due Date: April 12, 2022. Your comments regarding this information collection are best assured of having full effect if received within 60 days of the date of this publication.

ADDRESSES: Send your written comments, requests for more information on the collection, or requests to obtain a copy of the data collection instrument and instructions to Shannon Beyale, Health System Specialist, by one of the following methods:

• Mail: Indian Health Service, Office of Urban Indian Health Programs, 5600 Fishers Lane, Mail Stop: 08E65D, Rockville, MD 20857.

• Phone: 301-945-3657.

• Email: Shannon.Beyale@ihs.gov.

FOR FURTHER INFORMATION CONTACT: To request additional information, please contact Evonne Bennett, Information Collection Clearance Officer at: Evonne.Bennett@ihs.gov or 301-443-4750.

SUPPLEMENTARY INFORMATION: The Indian Health Care Improvement Act (IHCIA), at 25 U.S.C. 1655, states that the IHS will annually review and evaluate each Urban Indian Organization (UIO) funded under the law. The IHCIA also requires IHS to develop procedures for evaluating compliance with awards made under the statute. Section 1655 states, in part:

(a) Contract Compliance and Performance

The Secretary, through the Service, shall develop procedures to evaluate compliance with grant requirements under this subchapter and compliance with, and performance of contracts entered into by [UIOs] under this subchapter. Such procedures shall include provisions for carrying out the requirements of this section.

(b) Annual Onsite Evaluation

The Secretary, through the Service, shall conduct an annual on-site evaluation of each [UIO] which has entered into a contract or received a grant under Section 1653 of this title for purposes of determining the compliance of such organization with, and evaluating the performance of such organization under, such contract or the terms of such grant.

To meet statutory compliance, the IHS will conduct annual on-site reviews of UIOs funded under the IHCIA to ensure grant and contract compliance and the delivery of safe and high-quality health care.

This notice announces our intent to establish a new information collection.

Title: Urban Indian Organization On-Site Review. Need and Use of Information Collection: The Office of Urban Indian Health Programs (OUIHP) at IHS Headquarters provides national oversight of the annual on-site reviews. The IHS Urban Indian Organization On-Site Review is conducted annually by the IHS Area Offices to evaluate IHS-funded Urban Indian Organizations compliance with Federal Acquisition Regulation (FAR) contractual requirements and grant requirements established through the IHCIA. The on-site review requirements are based on best-practice standards for delivering safe and high quality health care. Agency Form Number: none. Members of Affected Public: IHS-funded Urban Indian Organizations. Status of the Proposed Information Collection: new.

The table below provides: Types of data collection instruments, Estimated number of respondents, Number of responses per respondent, Average burden hour per response, and Total annual burden hours.

Data collection instrument(s) | Estimated number of respondents | Responses per respondent | Average burden hour per response * | Total annual burden hours
UIOs | 41 | 1 | 16 | 656
Total | 41 | 1 | 16 | 656

There are no direct costs to respondents to report.

Requests for Comments: Your written comments and/or suggestions are invited on one or more of the following points:

(a) Whether the information collection activity is necessary to carry out an agency function;

(b) whether the agency processes the information collected in a useful and timely fashion;

(c) the accuracy of the public burden estimate (the estimated amount of time needed for individual respondents to provide the requested information);

(d) whether the methodology and assumptions used to determine the estimates are logical;

(e) ways to enhance the quality, utility, and clarity of the information being collected; and

(f) ways to minimize the public burden through the use of automated, electronic, mechanical, or other technological collection techniques or other forms of information technology.

Elizabeth A. Fowler,
Acting Deputy Director, Indian Health Service.

[FR Doc. 2022-02969 Filed 2-10-22; 8:45 am]

BILLING CODE 4165-16-P